NATIONAL SCIENCE FOUNDATION

Advisory Committee for Biological Sciences

Notice of Meeting

In accordance with the Federal Advisory Committee Act (Pub. L. 92-463, as amended), the National Science Foundation (NSF) announces the following meeting:

Name and Committee Code: Advisory Committee for Biological Sciences (#1110) (Hybrid Meeting)

Date and Time: September 13, 2023, 10:00 a.m.-5:00 p.m. Eastern; September 14, 2023, 10:00 a.m.-3:00 p.m. Eastern.

Place: NSF, 2415 Eisenhower Avenue, Alexandria, VA 22314 (Virtual).

The meeting will be held as a hybrid, with some Advisory Committee members participating in person and others participating virtually. For members of NSF and the external community, livestreaming will be accessible through the following pages:

September 13, 2023: https://youtube.com/watch?v=gMmpDtRtGmw

September 14, 2023: https://youtube.com/watch?v=LkY7FpSibOE

Additional sub-links for planned breakout sessions will be forthcoming on the BIO AC website prior to the meeting at: https://www.nsf.gov/bio/advisory.jsp.

Type of Meeting: Open.

Contact Persons: Dr. Karen C. Cone, National Science Foundation, 2415 Eisenhower Avenue, Alexandria, VA 22314; Telephone: (703) 292-4967; Email: kccone@nsf.gov.

Purpose of Meeting: The Advisory Committee for the Directorate for Biological Sciences (BIO) provides advice and recommendations concerning major program emphases, directions, and goals for the research-related activities of the divisions that make up BIO.

Summary of Minutes: Minutes will be available on the BIO Advisory Committee website at https://www.nsf.gov/bio/advisory.jsp or can be obtained from the contact person listed above.

Agenda: Agenda items will include: a Directorate business update; report out of Committee of Visitors Report for BIO/Division of Environmental Biology and AC vote to accept the report; overview of the report, `Bold Goals for U.S. Biotechnology and Biomanufacturing; Harnessing Research and Development to Further Societal Goals'; AC Discussion of Opportunities and Bottlenecks for Advancing the Bioeconomy; overview of NSF and BIO's Research Infrastructure to Support the Bioeconomy followed by AC discussion of research infrastructure needs; overview of the report `Building the Bioworkforce of the Future: Expanding Equitable Pathways into Biotechnology and Biomanufacturing Jobs'; AC Discussion of Opportunities, Gaps, and Bottlenecks for Building the Bioeconomy-relevant Workforce of the Future; discussion with the NSF Director and Chief Operating Officer; and other directorate matters.

Dated: August 10, 2023.
Crystal Robinson,
Committee Management Officer.

[FR Doc. 2023-17509 Filed 8-14-23; 8:45 am]

BILLING CODE 7555-01-P